DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

R. J. Corman Railroad

[Docket Number FRA-2008-0099]

R.J. Corman (RJC), a Class III Railroad, petitioned for waiver of compliance from certain provisions of the steam locomotive safety standards as prescribed by 49 CFR 230.105(a) Lateral motion, for one steam locomotive used in tourist/excursion service. Specifically, this waiver request applies to locomotive number RJC 2008, with boiler number 7040. The Class QJ, 2-10-2 locomotives were built by the Datong Locomotive Works, China. The Datong Works constructed 4,714 locomotives of this type between 1967 and 1988. The maximum operating speed for this type of locomotive is 50 mph.

Locomotive number RJC 2008 received a standard 250,000 km overhaul, a Class 3 repair in China prior to being shipped to the United States. The manufacturer's specifications for the QJ Class locomotive require a total lateral clearance of 20 mm (0.787 inch) on the number 1 and 5 driving axle, with a 4 mm (0.157 inch) clearance for the three center axles (no. 2-4). All tire back-to-back spacing is at 1,252 mm (53.267 inches). The purpose for this specification is to allow a locomotive with a long rigid wheelbase to negotiate a curve up to 15.2 degrees. The lateral wear limit for all driving axles is 10 mm (0.393 inch) over the original dimensions. In summary, by design and as built, model QJ locomotive exceeds the U.S. limit of 0.75 inch for allowable lateral clearance for driving axles number 1 and 5 as specified by 49 CFR 230.105(a).

RJC requests relief from the requirements of 49 CFR 230.105(a) for driving axles numbers 1 and 5 to allow for a maximum lateral clearance of up to 30 mm (1.181 inches). This is consistent with the manufacturer's design specification, and the operating experience of the China National Railway. In addition, the locomotive will be maintained in accordance with the requirements of 49 CFR 230.105(c) to ensure that no part of the running gear interfere with any other part of the steam locomotive.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2008-0099) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC, on January 14, 2009.
Grady C. Cothen, Jr.,
Deputy Associate Administrator for Safety Standards and Program Development.

[FR Doc. E9-1204 Filed 1-21-09; 8:45 am]

BILLING CODE 4910-06-P